DEPARTMENT OF TRANSPORTATION

Pipeline and Hazardous Materials Safety Administration

Notice of Delays in Processing of Special Permits Applications

AGENCY: Pipeline and Hazardous Materials Safety Administration (PHMSA), DOT.

ACTION: List of applications delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Ryan Paquet, Director, Office of Hazardous Materials Special Permits and Approvals, Pipeline and Hazardous Materials Safety Administration, U.S. Department of Transportation, East Building, PHH-30, 1200 New Jersey Avenue SE., Washington, DC 20590-0001, (202) 366-4535.

Key to “Reason for Delay”

1. Awaiting additional information from applicant.

2. Extensive public comment under review.

3. Application is technically complex and is of significant impact or precedent-setting and requires extensive analysis.

4. Staff review delayed by other priority issues or volume of special permit applications.

Meaning of Application Number Suffixes

N—New Application

M—Modification Request

R—Renewal Request

P—Party To Exemption Request

Issued in Washington, DC, on March 6, 2012.
Donald Burger,
Chief, General Approvals and Permits.

Application No. | Applicant | Reason for delay | Estimated date of completion
Modification to Special Permits
10898-M | Hydac Corporation Bethlehem, PA | 3 | 03-31-2012
14193-M | Honeywell International, Inc., Morristown, NJ | 4 | 03-31-2012
8723-M | Maine Drilling & Blasting Auburn, NH | 4 | 03-31-2012
10646-M | Schlumberger Technologies Corporation Sugar Land, TX | 4 | 03-31-2012
14372-M | Kidde Aerospace and Defense Wilson, NC | 4 | 12-31-2011
11516-M | The Testor Corporation Rockford, IL | 4 | 12-31-2011
11670-M | Schlumberger Oilfield UK Plc Dyce, Aberdeen Scotland, Ab | 3 | 03-31-2012
New Special Permit Applications
15080-N | Alaska Airlines Seattle, WA | 1 | 03-31-2012
15229-N | Linde Gas North America LLC New Providence, NJ | 4 | 03-31-2012
15283-N | KwikBond Polymers, LLC Benicia, CA | 4 | 03-31-2012
15334-N | Floating Pipeline Company Incorporated Halifax, Nova Scotia | 4 | 03-31-2012
15322-N | Digital Wave Corporation Englewood, CO | 4 | 03-31-2012
15393-N | Savannah Acid Plant LLC Savannah, GA | 3 | 03-31-2012
15451-N | NK CO., LTD Gangseo-Gu, Busan | 4 | 05-30-2012
15510-N | TEMSCO Helicopters, Inc. Ketchikan, AK | 4 | 03-31-2012
Party to Special Permits Application
12134-P | Riceland Foods, Inc. Stuttgart, AR | 4 | 03-31-2012
12412-P | Club Care Inc. dba Knock Out Chemicals Doraville, GA | 4 | 03-31-2013
Renewal Special Permits Applications
14482-R | Classic Helicopters Limited, L.C. Woods Cross, UT | 4 | 03-31-2012
11749-R | Occidental Chemical Corporation Dallas, TX | 4 | 03-31-2012
7891-R | Aldrich Chemical Company Inc. Milwaukee, WI | 4 | 03-31-2012
12283-R | Interstate Battery of Alaska Anchorage, AK | 4 | 03-31-2012
10709-R | Schlumberger Technologies Corporation Sugar Land, TX | 4 | 03-31-2012
11227-R | Schlumberger Well Services a Division of Schlumberger Technology Corporation Sugar Land, TX | 4 | 03-31-2012
9929-R | Alliant Techsystems Inc. Propulsion & Controls (Former Grantee ATK Elkton) Elkton, MD | 4 | 03-31-2012
11903-R | Comptank Corporation Bothwell, ON | 4 | 10-31-2012
4850-R | Schlumberger Technology Corporation Sugar Land, TX | 4 | 03-31-2012
11110-R | United Parcel Services Company Louisville, KY | 4 | 10-31-2012
8445-R | AET Environmental, Inc. DENVER, CO | 4 | 03-31-2012
11043-R | AET Environmental, Inc. DENVER, CO | 4 | 03-31-2012
7887-R | 21st Century Environmental Management, LLC of RI Providence, RI | 4 | 03-31-2012
14823-R | FedEx Ground Package System, Inc. Moon Township, PA | 4 | 05-31-2012
10043-R | Texas Instruments Incorporated (“TI”) Dallas, TX | 4 | 03-31-2012
12095-R | Union Tank Car Company Chicago, IL | 4 | 03-31-2013
12095-R | American Railcar Industries St. Charles, MO | 4 | 03-31-2013
8009-R | FIBA Canning, Inc. Scarborough, ON | 4 | 05-30-2012

[FR Doc. 2012-6064 Filed 3-14-12; 8:45 am]

BILLING CODE 4910-60-M